SECURITIES AND EXCHANGE COMMISSION

Issuer Delisting; Notice of Application To Withdraw From Listing and Registration (e-SIM Ltd., Ordinary Shares, Par Value NIS .10 per Share); File No. 1-14842

March 15, 2000.

E-SIM Ltd. (“Company”), has filed an application with the Securities and Exchange Commission (“Commission”), pursuant to section 12(d) of the Securities Exchange Act of 1934 (“Act”) ¹ and Rule 12d2-2(d) ² thereunder, to withdraw the security described above (“Security”) from listing and registration on the American Stock Exchange LLC (“Amex” or “Exchange”).

¹ 15 U.S.C. 78l(d).

² 17 CFR 240.12d2-2(d).

The Security has been listed on the Amex and registered pursuant to Section 12(b) of the Act ³ under a Registration Statement which became effective on July 7, 1998. Subsequently the Company has determined to transfer trading in its Security from the Amex to the Nasdaq stock Market, Inc. (“Nasdaq”). The Company has registered its Security pursuant to section 12(g) of the Act ⁴ under a Registration Statement on Form 8-A filed with the Commission on March 9, 2000. The Security became designated for quotation and began trading on the Nasdaq National Market on March 14, 2000.

³ 15 U.S.C. 78l(b).

⁴ 15 U.S.C. 78l(g).

In making the determination to transfer its Security from trading on the Amex to the Nasdaq National Market, the Company considered that the Security would benefit from better exposure and a more liquid market on the Nasdaq among other issuers whose primary business relates to Internet technology.

The Company has stated that it has complied with the Rules of the Amex governing the withdrawal of its Security from listing and registration on the Amex and that the Exchange in turn has indicated that it will not oppose such withdrawal.

The Company's application relates solely to the withdrawal of the Security from listing and registration on the Amex and shall have no effect upon the Security's continued designation for quotation and trading on the Nasdaq National Market. By reason of section 12(g) of the Act ⁵ and the rules and regulations of the Commission thereunder, the company shall continue to be obligated to file reports with the Commission required by Section 13 of the Act.⁶

⁵ Id.

⁶ 15 U.S.C. 78m.

Any interested person may, on or before April 5, 2000, submit by letter to the Secretary of the Securities and Exchange Commission, 450 Fifth Street, NW, Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority. ⁷

⁷ 17 CFR 200.30-3(a)(1).

Jonathan G. Katz,
Secretary.

[FR Doc. 00-6949 Filed 3-20-00; 8:45 am]

BILLING CODE 8010-01-M